Title 3—

The President

Proclamation 10628 of September 22, 2023

National Historically Black Colleges and Universities Week, 2023

By the President of the United States of America

A Proclamation

Our Nation's Historically Black Colleges and Universities (HBCUs) are rooted in a fundamental tenet of our democracy: A quality education is a right that belongs to all people, and every single American should be free to pursue the limits of their talent and ambition. During National Historically Black Colleges and Universities Week, we recommit to supporting and investing in HBCUs so they can continue the essential work of educating and empowering students who enrich the soul of our Nation.

Throughout their history, HBCUs have instilled in their students a sense of culture and purpose and a commitment to making a difference in the lives of all Americans. They are centers of academic excellence, producing 40 percent of all Black engineers in America, 50 percent of all Black lawyers in America, 70 percent of all Black doctors and dentists in America, and 80 percent of all Black judges in America. They are incubators of scholars and educators; advocates and athletes; and leaders in every sector of our society, including industry, public interest firms, faith, medicine, and the arts and sciences. They have molded trailblazers, visionaries, and public servants, who have helped make our democracy more inclusive and equitable. I see the excellence of HBCUs manifested every day in my Administration by HBCU alumni who are gifted members of my cabinet—like Vice President Kamala Harris and Administrator of the Environmental Protection Agency Michael Regan—and in staff serving at all levels of my Administration.

Despite the wealth of their contributions to our society, HBCUs often do not have the same endowments and financial resources as other colleges and universities. That is not only unfair—it undermines the full potential of our Nation. It means leading institutions are often unable to build and fund research labs, which can lead to the new technologies and innovations that define American excellence. That is why, with the help of Vice President Harris, my Administration has delivered more than $7 billion to HBCUs—including to prepare students to contribute to the future in high-demand and high-income fields, like cybersecurity, engineering, biochemistry, and health care. I have also re-established the White House Initiative on Advancing Educational Equity, Excellence, and Economic Opportunity for HBCUs to increase their participation in Federal programs that offer greater access to funding, ensuring HBCUs can continue to be engines of opportunity in the future.

While talent, creativity, and the willingness to work hard are everywhere in this country, equal opportunity is not. To make sure every American has the opportunity to pursue higher education, my Administration has increased the maximum Pell Grant by $900—the largest increase in the last decade—and my new budget will put us on a path to double the maximum award by 2029. Further, in response to my budget, the Congress established a program to provide direct support to academic institutions by creating and sustaining evidence-based strategies that support students through college re-enrollment, retention, and completion.

There is still so much to do to make higher education more accessible and affordable. Last year, I announced a student debt relief plan, and we were on the verge of providing thousands of dollars in relief to more than 40 million Americans. Then the Supreme Court ruled against it, derailing an opportunity that would have changed so many lives for the better. Though that decision closed one door, I responded immediately by announcing that my Administration is pursuing an alternative path for debt relief, and that we finalized the Saving on a Valuable Education Program (SAVE)—the most affordable student loan repayment program ever created.

This program calculates loan payments based on a student's income and family size, not on the size of the loan. Under this plan, some students' monthly payments will drop to zero, and others will save around $1,000 a year. Borrowers who pay what they owe on this plan will no longer see their loans grow due to unpaid interest, and the program will get some borrowers to forgiveness faster. I will never stop fighting to create the student debt relief Americans need to help restore their faith in the American Dream. With the Supreme Court's decision to effectively end affirmative action, my Administration will continue fighting to put quality education within reach of everyone and fulfill the promise of America for all Americans. Lastly, my Administration is aware that there have been threats by domestic extremists who may seek to spread fear on HBCU campuses. We are committed to protecting any and all Americans who find themselves on the frontline of domestic extremist threats or violence.

More than five decades ago, in response to an act of racist terror, a young Morehouse student named Martin Luther King, Jr. wrote a letter to the Atlanta Constitution saying, “We want and are entitled to the basic rights and opportunities of American citizens.” In those words, we see just one example of the sacred and proud tradition of HBCUs: opening the doors of opportunity wider for students, helping them find the power in their voice, and giving them the tools to make true change in our world. Today, we recommit to supporting HBCUs that, in raising the next generation of dreamers and doers, bring more equity, prosperity, and opportunity for our Nation.

NOW, THEREFORE, I, JOSEPH R. BIDEN JR., President of the United States of America, by virtue of the authority vested in me by the Constitution and the laws of the United States, do hereby proclaim September 24 through September 30, 2023, as National Historically Black Colleges and Universities Week. I call upon educators, students, public officials, professional organizations, corporations, and all Americans to observe this week with appropriate programs, ceremonies, and activities that acknowledge the countless contributions these institutions and their alumni have made to our country.

IN WITNESS WHEREOF, I have hereunto set my hand this twenty-second day of September, in the year of our Lord two thousand twenty-three, and of the Independence of the United States of America the two hundred and forty-eighth.

[FR Doc. 2023-21637

Filed 9-27-23; 11:15 am]

Billing code 3395-F3-P